DEPARTMENT OF DEFENSE

Department of the Air Force

[Docket No. USAF-2008-0006]

Proposed Collection; Comment Request

AGENCY: HQ USAFA/RR, DoD.

ACTION: Notice.

SUMMARY: In compliance with Section 3506(c)(2)(A) of the Paperwork Reduction Act of 1995, HQ USAFA/RR announces the a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 26, 2012.

ADDRESSES: You may submit comments, identified by docket number and title, by any of the following methods:

Federal eRulemaking Portal: http://www.regulations.gov. Follow the instructions for submitting comments.

Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: HQ USAFA/RR, 2304 Cadet Drive, Suite 2400, USAF Academy, CO 80840 or call (719) 333-8850.

Title; Associated Form; and OMB Number: Nomination For Appointment To The United States Military Academy, Naval Academy or Air Force Academy; DD FORM 1870; OMB Control Number 0701-0026.

Needs and Uses: DD FM 1870 is used to implement the provisions of Title X, U.S.C. 4342, 6953 and 32 CFR part 901. Members of Congress, the Vice President and Delegates to Congress and Resident Commissioner of Puerto Rico use this form to nominate constituents to the three DoD Academies, West Point, Annapolis and Air Force. Data required is supplied by the prospective nominees to Members of Congress. Eligibility requirements are outlined in AFI 36-2019, Appointment to the United States Air Force Academy.

Affected Public: Applicants to DoD Military Academies.

Annual Burden Hours: 2,600.

Number of Respondents: 5,200.

Responses per Respondent: 1.

Average Burden per Response: 30 minutes.

Frequency: On occasion.

SUPPLEMENTARY INFORMATION:

Summary of Information Collection

The Department of Defense Form 1870, Nomination for Appointment to the United States Military Academy, Naval Academy and Air Force Academy, is used solely by legal nominating authorities who by Federal law are entitled to make appointments to the three service military academies. The nomination form allows for nominating authorities to select by checking one box as to which academy is being provided with the name of a nomination to be processed. Eligibility information concerning the nominees is information that is also included on the form. The nominating authority identifies himself/herself and must date and sign the form to make it a legally acceptable form. The form includes the three addresses of the service academies in order that the form may be submitted to the proper academy. The form is currently used, full time, by only the United States Military Academy. The United States Air Force Academy uses the form only in rare cases totally no more that 100 forms each year. The United States Naval Academy does not use the form. The reason for this is the United States Naval Academy and the United States Air Force Academy now employ an on-line nomination submissions program in lieu of the DD Form 1870. We expect the United States Military Academy will employ the on-line nomination submissions program beginning in the Fall of CY 2008.

Dated: January 31, 2012.
Patricia L. Toppings,
OSD Federal Register Liaison Officer, Department of Defense.

[FR Doc. 2012-3498 Filed 2-14-12; 8:45 am]

BILLING CODE 5001-06-P